FEDERAL RESERVE SYSTEM

12 CFR Part 261

Rules Regarding Availability of Information

CFR Correction

In Title 12 of the Code of Federal Regulations, Parts 230 to 299, revised as of January 1, 2013, on page 258, in § 261.2(c)(1)(ii), paragraphs (A) and (B) are reinstated to read as follows:

§ 261.2 Definitions.

* * * * *

(c)(1) * * *

* * * * *

(ii) * * *

(A) Such final orders, amendments, or modifications of final orders, or other actions or documents that are specifically required to be published or made available to the public pursuant to 12 U.S.C. 1818(u), or other applicable law, including the record of litigated proceedings; and (B) The public section of Community Reinvestment Act examination reports, pursuant to 12 U.S.C. 2906(b); and

* * * * *

[FR Doc. 2013-13917 Filed 6-10-13; 8:45 am]

BILLING CODE 1505-01-P